ENVIRONMENTAL PROTECTION AGENCY

[FRL-10017-40-ORD]

Human Studies Review Board; Notification of Public Meetings

AGENCY: Environmental Protection Agency (EPA).

ACTION: Notice.

SUMMARY: The Environmental Protection Agency (EPA), Office of Research and Development announces the 2021 public meetings dates of the Human Studies Review Board (HSRB) to advise the Agency on the ethical and scientific review of research involving human subjects. Due to unforeseen circumstances, EPA is announcing this meeting with less than 15 calendar days' notice.

DATES: Four three-day virtual public meetings will be held on:

1. January 26-28, 2021;

2. April 20-22, 2021;

3. July 20-22, 2021; and

4. October 19-21, 2021.

Meetings will be held each day from 1 p.m. to 5:30 p.m. Eastern Time. Separate, subsequent teleconference meetings are planned for the HSRB to finalize its Reports of the three-day meetings that proceed these dates on March 18, 2021; June 17, 2021; September 16, 2021; and December 14, 2021; all from 2 p.m. to approximately 3:30 p.m. Eastern Time.

ADDRESSES: These meetings are open to the public and will be conducted entirely virtually and by telephone. For detailed access information and meeting materials please visit the HSRB website: https://www.epa.gov/osa/human-studies-review-board.

FOR FURTHER INFORMATION CONTACT: Any member of the public who wishes to receive further information should contact the HSRB Designated Federal Official (DFO), Thomas O'Farrell at the following telephone number: (202) 564-8451 or by email at: ofarrell.thomas@epa.gov.

SUPPLEMENTARY INFORMATION:

Background

The HSRB is a Federal advisory committee operating in accordance with the Federal Advisory Committee Act 5 U.S.C. App.2 section 9. The HSRB provides advice, information, and recommendations on issues related to scientific and ethical aspects of third-party human subjects research that are submitted to the Office of Pesticide Programs (OPP) to be used for regulatory purposes.

Meeting access: These meetings will be open to the public. The full agenda with access information and meeting materials will be available seven calendar days prior to the start of each meeting at the HSRB website: https://www.epa.gov/osa/human-studies-review-board.

For questions on document availability, or if you do not have access to the internet, consult with the DFO, Thomas O'Farrell, listed under FOR FURTHER INFORMATION CONTACT.

Special Accommodations. For information on access or services for individuals with disabilities, or to request accommodation of a disability, please contact the DFO listed under FOR FURTHER INFORMATION CONTACT at least 10 days prior to each meeting to give EPA as much time as possible to process your request.

How may I participate in this meeting?

The HSRB encourages the public's input. You may participate in these meetings by following the instructions in this section.

1. Oral comments. To pre-register to make oral comments, please contact the DFO, Thomas O'Farrell, listed under FOR FURTHER INFORMATION CONTACT. Requests to present oral comments during the meetings will be accepted up to Noon Eastern Time, seven calendar days prior to each meeting date. To the extent that time permits, interested persons who have not pre-registered may be permitted by the HSRB Chair to present oral comments during the meetings at the designated time on the agenda. Oral comments before the HSRB are generally limited to five minutes per individual or organization. If additional time is available, further public comments may be possible.

2. Written comments. For the Board to have the best opportunity to review and consider your comments as it deliberates, you should submit your comments prior to the meetings via email by Noon Eastern Time, seven calendar days prior to each meeting date. If you submit comments after these dates, those comments will be provided to the HSRB members, but you should recognize that the HSRB members may not have adequate time to consider your comments prior to their discussion. You should submit your comments to the DFO, Thomas O'Farrell listed under FOR FURTHER INFORMATION CONTACT. There is no limit on the length of written comments for consideration by the HSRB.

Topics for discussion. The agenda and meeting materials will be available seven calendar days in advance of each meeting at https://www.epa.gov/osa/human-studies-review-board.

Meeting minutes and final reports. Minutes of these meetings, summarizing the topics discussed and recommendations made by the HSRB, will be released within 90 calendar days of each meeting. These minutes will be available at https://www.epa.gov/osa/human-studies-review-board. In addition, information regarding the HSRB's Final Reports, will be found at https://www.epa.gov/osa/human-studies-review-board or can be requested from Thomas O'Farrell listed under FOR FURTHER INFORMATION CONTACT.

Jennifer Orme-Zavaleta,
EPA Science Advisor.

[FR Doc. 2021-01205 Filed 1-19-21; 8:45 am]

BILLING CODE 6560-50-P